DEPARTMENT OF THE INTERIOR

Fish and Wildlife Service

Preparation of an Environmental Impact Statement for Issuance of an Incidental Take Permit Associated With a Habitat Conservation Plan for the California Department of Parks and Recreation's Operation of Certain San Luis Obispo Coast District Parks and the Oceano Dunes State Vehicular Recreation Area in San Luis Obispo County, CA

AGENCY: Fish and Wildlife Service, Interior.

ACTION: Notice of intent.

SUMMARY: Pursuant to the National Environmental Policy Act (NEPA) (42 U.S.C. 4321, et seq.), the U.S. Fish and Wildlife Service (Service or “we”) advises the public that we intend to gather information necessary to prepare, in coordination with the California Department of Fish and Game (CDFG) and the California Department of Parks and Recreation (CDPR), a joint Environmental Impact Statement/Environmental Impact Report (EIS/EIR) on the proposed Habitat Conservation Plan for the San Luis Obispo Coast District and Oceano Dunes State Vehicular Recreation Area (HCP). The proposed HCP is being prepared under section 10(a)(1)(B) of the Endangered Species Act of 1973 as amended, (ESA) (16 U.S.C. 1531 et seq.). The incidental take permit is needed to authorize the incidental take of listed species as a result of implementing activities covered under the proposed HCP.

We provide this notice to: (1) Describe the proposed action and possible alternatives; (2) advise other Federal and State agencies, affected Tribes, and the public of our intent to prepare an EIS/EIR; (3) announce the initiation of a 30-day public scoping period; and (4) obtain suggestions and information on the scope of issues and alternatives to be included in the EIS/EIR.

DATES: Public meetings will be held on: Wednesday, February 23, 2005 from 1 p.m. to 3 p.m. and 6 p.m. to 8 p.m. Written comments should be received on or before March 18, 2005.

ADDRESSES: The public meetings on Wednesday, February 23, 2005 will both be held at the Morro Bay Natural History Museum, 20 State Park Road, Morro Bay, CA 93442. Information, written comments, or questions related to the preparation of the EIS/EIR and the NEPA process should be submitted to Diane Noda, Field Supervisor, U.S. Fish and Wildlife Service, Ventura Fish and Wildlife Office, 2493 Portola Road, Suite B, Ventura, California 93003; fw1sloparks@fws.gov; or FAX (805) 644-3958.

FOR FURTHER INFORMATION CONTACT: Steve Henry (see ADDRESSES) at (805) 644-1766.

SUPPLEMENTARY INFORMATION:

Reasonable Accommodation

Persons needing reasonable accommodations in order to attend and participate in the public meeting should contact Max Mora (see ADDRESSES) at (805) 644-1766 as soon as possible. In order to allow sufficient time to process requests, please call no later than one week before the public meeting. Information regarding this proposed action is available in alternative formats upon request.

Background

Section 9 of the ESA and Federal regulations prohibit the “take” of a fish or wildlife species listed as endangered or threatened. Under the ESA, the following activities are defined as take: harass, harm, pursue, hunt, shoot, wound, kill, trap, capture or collect listed animal species, or attempt to engage in such conduct (16 U.S.C. 1538). However, under section 10(a) of the ESA, we may issue permits to authorize “incidental take” of listed species. Incidental take is defined by the ESA as take that is incidental to, and not the purpose of, carrying out an otherwise lawful activity. Regulations governing permits for threatened and endangered species are at 50 CFR 13 and 50 CFR 17.

Take of listed plant species is not prohibited under the ESA and cannot be authorized under an ESA section 10 permit. We propose to include plant species on the permit in recognition of the conservation benefits provided for them under the HCP. All species included on the permit would receive assurances under the Service's “No Surprises” regulation, if at the time of issuance of the incidental take permit the “No Surprises” regulation is in effect (63 FR 8859).

CDPR intends to request a permit authorizing the incidental take of 4 animal species for approximately 15 years during the course of conducting otherwise lawful land use activities on public land. The permit would also cover 8 federally listed plants and 2 currently unlisted plants. Listed species proposed to be covered are the federally-endangered California least tern (Sterna antillarum browni), Morro shoulderband snail (Helminthoglypta walkeriana), marsh sandwort (Arenaria paludicola), La Graciosa thistle (Cirsium loncholepis), salt marsh bird's-beak (Cordylanthus maritimus ssp. maritimus), Indian Knob mountainbalm (Eriodictyon altissimum), Nipomo Mesa lupine (Lupinus nipomoensis), Gambel's water cress (Rorippa gambellii), California seablite (Suaeda californica); the federally-threatened western snowy plover (Charadrius alexandrinus nivosus), California red-legged frog (Rana aurora draytonii), and Morro manzanita (Arcotostaphylos morroensis). Unlisted species proposed to be covered are the State-threatened surf thistle (Cirsium rhothophilum) and beach spectacle pod (Dithyrea maritima).

Currently, CDPR is requesting a permit for incidental take of the covered animal species on six park units, or portions thereof, in the Estero Bay and Guadalupe-Nipomo Dunes areas of San Luis Obispo County. From north to south, the park units are: Estero Bluffs, Morro Strand State Beach, Morro Bay State Park, Montaña De Oro State Park, Pismo Dunes Natural Preserve (a subunit of Pismo State Beach), and Oceano Dunes State Vehicular Recreation Area. Together, the covered units encompass approximately 24 square miles. The proposed HCP would be designed principally to avoid the take of the Covered Species, but it also would include provisions to minimize and mitigate the impacts of any take that may occur.

Activities proposed to be covered by the HCP (Covered Activities) are generally activities that result from visitor use, ongoing operations of the State Parks, or from the resource protection measures needed to avoid and minimize the impacts of park use on the covered species. Covered Activities fall into five broad categories: park visitor activities, general park maintenance and operations, natural resource management, special projects, and special events.

The proposed HCP would describe how the effects of the Covered Activities would be minimized and mitigated under the conservation program. Program components would likely include: avoidance and minimization measures; monitoring; adaptive management; predator control; and mitigation measures consisting of habitat restoration and enhancement.

Environmental Impact Statement

CDPR and the Service have selected Thomas Reid Associates (TRA) to prepare the EIS/EIR. The document will be prepared in compliance with NEPA and the California Environmental Quality Act (CEQA). TRA will prepare the EIS/EIR under the supervision of the Service, which will be responsible for the scope and content of the NEPA document. CDPR will be responsible for the scope and content of the CEQA document.

The EIS/EIR will consider the proposed action, the issuance of a Section 10(a)(1)(B) permit under the ESA, no action (no permit), and a reasonable range of alternatives. A detailed description of the impacts of the proposed action and each alternative will be included in the EIS/EIR. The alternatives to be considered for analysis in the EIS/EIR may include: variations in the scope of covered activities; variations in the location, amount and type of conservation; variations in permit duration; or, a combination of these elements.

The EIS will also identify potentially significant direct, indirect, and cumulative impacts on biological resources, land use, air quality, water quality, water resources, socioeconomics, and other environmental issues that could occur with the implementation of the proposed actions and alternatives. For all potentially significant impacts, the EIS will identify avoidance, minimization, and mitigation measures to reduce these impacts, where feasible, to a level below significance.

Review of the EIS will be conducted in accordance with the requirements of NEPA, Council on the Environmental Quality Regulations (40 CFR 1500-1508), the Administrative Procedures Act, other applicable regulations, and the Service's procedures for compliance with those regulations. This notice is being furnished in accordance with 40 CFR 1501.7 of NEPA to obtain suggestions and information from other agencies and the public on the scope of issues and alternatives to be addressed in the EIS. The primary purpose of the scoping process is to identify important issues and alternatives raised by the public, related to the proposed action. Written comments from interested parties are welcome to ensure that the full range of issues related to the permit request is identified. Comments will only be accepted in written form. You may submit written comments by mail, e-mail, or facsimile transmission (see ADDRESSES). All comments received, including names and addresses, will become part of the official administrative record and may be made available to the public.

Dated: February 10, 2005.
Ken McDermond,
Deputy Manager, California/Nevada Operations Office, U.S. Fish and Wildlife Service.

[FR Doc. 05-2965 Filed 2-15-05; 8:45 am]

BILLING CODE 4310-55-P